INTERNATIONAL TRADE COMMISSION

[Investigation No. 337-TA-657]

In the Matter of Certain Automotive Multimedia Display and Navigation Systems, Components Thereof, and Products Containing Same; Notice of Commission Determination To Extend Briefing Schedule

AGENCY: U.S. International Trade Commission.

ACTION: Notice.

SUMMARY: Notice is hereby given that the U.S. International Trade Commission has determined to extend certain deadlines in the Notice of Commission Determination to Review in Part a Final Initial Determination Finding No Violation of Section 337; Schedule for Filing Written Submissions on the Issues Under Review and on Remedy, the Public Interest and Bonding, 74 FR 62589 (Nov. 30, 2009).

FOR FURTHER INFORMATION CONTACT: Sidney A. Rosenzweig, Esq., Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted Investigation No. 337-TA-657 on September 22, 2008, based on a complaint filed by Honeywell International Inc. of Morristown, New Jersey (“Honeywell”). 73 FR 54617 (Sept. 22, 2008). The complainant named eight respondents, including Pioneer Corporation of Japan and Pioneer Electronics (USA) Inc. of Long Beach, California (collectively “Pioneer”). The investigation has been terminated against all respondents other than Pioneer.

On September 22, 2009, the Administrative Law Judge issued his final Initial Determination (ID), finding no violation of section 337 by Pioneer. On November 23, 2009, the Commission determined to review in part the ID. The Commission's notice requested that the parties submit briefs on remedy, public interest and bonding, as well as on specific patent-related questions. 74 FR 62589 (Nov. 30, 2009). The notice also solicited written submissions from interested government agencies, and any other interested parties on the issues of remedy, the public interest, and bonding. Id. at 62591. Opening briefing is presently due on December 7, 2009, and reply briefing is due on December 14, 2009. Id. On November 30, 2009, Honeywell and Pioneer filed a Joint Motion to Extend Briefing Schedule, requesting that the Commission extend the opening and reply briefing deadlines to December 30, 2009 and January 7, 2010, respectively. The Office of Unfair Import Investigations has consented to the motion.

Upon consideration of this matter, the Commission has determined that the December 7, 2009 and December 14, 2009 deadlines for written submissions in the Notice of Commission Determination to Review in Part a Final Initial Determination Finding No Violation of Section 337; Schedule for Filing Written Submissions on the Issues Under Review and on Remedy, the Public Interest and Bonding, 74 FR 62589 (Nov. 30, 2009), are hereby extended to December 30, 2009 and January 7, 2010, respectively.

By order of the Commission.
Issued: December 2, 2009.
Marilyn R. Abbott,
Secretary to the Commission.

[FR Doc. E9-29077 Filed 12-4-09; 8:45 am]

BILLING CODE 7020-02-P